DEPARTMENT OF AGRICULTURE

Forest Service

Information Collection; Submission Requirements and Acceptance Testing Protocols and Requirements for New or Relocated Aerial Tramways, Aerial and Surface Lifts, Tows, Conveyors, and Funiculars

AGENCY: Forest Service, USDA.

ACTION: Notice; request for comment.

SUMMARY: In accordance with the Paperwork Reduction Act of 1995, the Forest Service is seeking public comment on a new information collection, form FS-7300-0006, Submission Requirements and Acceptance Testing Protocols and Requirements for New or Relocated Aerial Tramways, Aerial and Surface Lifts, Tows, Conveyors, and Funiculars.

DATES: Comments must be received in writing on or before July 27, 2021 to be assured of consideration. Comments received after that date will be considered to the extent practicable.

ADDRESSES: Commenters are encouraged to submit comments by email, if possible. You may submit comments by any of the following methods:

Email: curt.panter@usda.gov.

Mail: Curt Panter, Intermountain Region, Regional Office-Engineering, 324 25th Street, Ogden, Utah 84401.

All comments, including names and addresses when provided, will be placed in the record and will be available for public inspection and copying. Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Curt Panter, Intermountain Region, Regional Office-Engineering, 801-726-2213 or curt.panter@usda.gov. Individuals who use telecommunication devices for the deaf may call the Federal Relay Service at 800-877-8339 between 8:00 a.m. and 8:00 p.m., Eastern Time, Monday through Friday.

SUPPLEMENTARY INFORMATION:

Title: Submission Requirements and Acceptance Testing Protocols and Requirements for New or Relocated Aerial Tramways, Aerial and Surface Lifts, Tows, Conveyors, and Funiculars.

OMB Number: 0596-NEW.

Type of Request: New.

Abstract: Existing form FS-2700-5b, Ski Area Term Special Use Permit, requires the permit holder to be responsible for the design, construction, maintenance, operation, and public safety of improvements authorized by the permit, including new or relocated aerial tramways, aerial and surface lifts, tows, conveyors, and funiculars (hereinafter “passenger ropeways”).

In particular, clause II.B of FS-2700-5b requires all plans for development, layout, construction, reconstruction, or alteration of improvements in the permit area, as well as revisions to those plans, to be prepared by a licensed engineer, architect, landscape architect, or other qualified professional acceptable to the authorized officer. Clause II.B further provides that these plans and plan revisions must have written approval from the authorized officer before they are implemented and that the authorized officer may require the holder to furnish as-built plans, maps, or surveys upon completion of the work. New form FS-7300-0006, Submission Requirements and Acceptance Testing Protocols and Requirements, would also be used for passenger ropeways authorized by other types of special use authorizations besides the Ski Area Term Special Use Permit. The submission requirements in new form FS-7300-0006 align with American National Standard Institute Standard B77.1 (ANSI B77.1) for passenger ropeways, which has been adopted by the Forest Service on National Forest System lands. ANSI B77.1 enumerates documentation, certification, and other requirements for ensuring the integrity of the design, construction, maintenance, and operational safety of passenger ropeways. New form FS-7300-0006 is needed to ensure that holders of ski area permits or other types of special use authorizations authorizing passenger ropeways submit the requisite information and documentation for Forest Service engineers to assess whether new or relocated passenger ropeways meet design, construction, maintenance, and operational safety requirements in ANSI B77.1.

Estimated Annual Burden: 1 burden hour per response.

Type of Respondents: Businesses and other non-federal organizations and entities.

Estimated Annual Number of Respondents: 8.

Estimated Annual Number of Responses per Respondent: 8.

Estimated Total Annual Burden on Respondents: 72 hours.

Comment is Invited: Comment is invited on (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request provided to the Office of Management and Budget for approval.

Deborah Oakeson,
Acting Director Engineering, Technology and Geospatial Services.

[FR Doc. 2021-11323 Filed 5-27-21; 8:45 am]

BILLING CODE 3411-15-P